DEPARTMENT OF HEALTH AND HUMAN SERVICES

National Advisory Committee on Individuals With Disabilities and Disasters

AGENCY: Office of the Assistant Secretary for Preparedness and Response (ASPR), Department of Health and Human Services (HHS).

ACTION: Notice.

SUMMARY: The Office of the Assistant Secretary for Preparedness and Response (ASPR), in the Department of Health and Human Services (HHS) Office of the Secretary announces establishment of the National Advisory Committee on Individuals with Disabilities and Disasters (NACIDD). The Advisory Committee will provide advice and consultation to the HHS Secretary with respect to the medical, public health, and accessibility needs of individuals with disabilities related to preparation for, response to, and recovery from all-hazards emergencies. The Office of the Assistant Secretary for Preparedness and Response (ASPR) shall provide management and administrative oversight to support the activities of the Advisory Committee. The Office of the Secretary is accepting application submissions from qualified individuals who wish to be considered for membership on the NACIDD. Up to seven voting members with expertise disability accessibility, disaster planning, preparedness, response, or recovery will be selected for the Committee. Please visit the NACIDD website at www.phe.gov/nacidd for all application submission information and instructions. Application submissions will be accepted for 30 calendar days from the date this posting is published in the Federal Register.

DATES: Application Period: The application submissions will be accepted for 30 calendar days from the date this posting is published in the Federal Register.

FOR FURTHER INFORMATION CONTACT: Maxine Kellman, DVM, Ph.D., PMP, Alternate Designated Federal Official for National Advisory Committees, Washington, DC, Office (202) 260-0447 or email maxine.kellman@hhs.gov.

SUPPLEMENTARY INFORMATION: The Office of the Assistant Secretary for Preparedness and Response provides management and administrative oversight to support the activities of the NACIDD.

Description of Duties: The NACIDD shall evaluate issues and programs and provide findings, advice, and recommendations to the Secretary of HHS, in accordance with FACA, to support and enhance all-hazards public health and medical preparedness, response activities, and recovery aimed at meeting the unique needs of individuals with disabilities across the entire spectrum of their wellbeing. The NACIDD shall (1) provide advice and consultation with respect to activities carried out pursuant to section 2814 of the PHS Act (at-risk individuals), as applicable and appropriate; (2) evaluate and provide input with respect to the medical, public health, and accessibility needs of individuals with disabilities related to preparation for, response to, and recovery from all-hazards emergencies; and (3) provide advice and consultation with respect to State emergency preparedness and response activities, including related drills and exercises pursuant to the preparedness goals under section 2802(b) of the PHS Act (National Health Security Strategy).

The NACIDD will primarily, though not exclusively:

A. Monitor for and provide advice regarding emerging policy, scientific, technical, or operational issues and concerns related to medical and public health preparedness, response, and recovery in the event of a public health emergency declared by the Secretary of HHS;

B. Evaluate and provide advice on implementation of the preparedness goals described in the National Health Security Strategy as they apply to individuals with disabilities;

C. Monitor and make recommendations to improve HHS assistance to other Departments in planning for, responding to, and recovering from public health emergencies with respect to the effects on individuals with disabilities and their families;

D. Make recommendations to ensure that the contents of the Strategic National Stockpile take into account the unique needs of individuals with disabilities;

E. Make recommendations regarding curriculum development for public health and medical response training for medical management of casualties among individuals with disabilities;

F. Monitor and provide advice regarding novel and best practices of outreach to, and care of, individuals with disabilities before, during, and following public health emergencies;

G. Monitor and make recommendations to ensure that public health and medical information distributed by HHS during a public health emergency is delivered in a manner that takes into account the range of developmentally appropriate communication needs of individuals with disabilities and their families or guardians;

H. Provide advice for coordination of systems for situational awareness and biosurveillance that require incorporation of data and information from Federal, State, local, Tribal, and Territorial public health officials and relevant entities to identify health threats to individuals with disabilities and families.

I. Evaluate and provide inputs with respect to the medical, mental and behavioral, and public health needs of individuals with disabilities as they relate to preparation for, response to, and recovery from all-hazards emergencies;

J. Provide advice and consultation with respect to individuals with disabilities and State, Tribal, and Territorial emergency preparedness and response activities, including related drills and exercises pursuant to the preparedness goals in the National Health Security Strategy.

Structure: Members shall be appointed by the HHS Secretary from among the nation's preeminent scientific, public health, and medical experts in areas consistent with the purpose and functions of the advisory committee. The HHS Secretary, in consultation with such other heads of federal agencies as may be appropriate, shall appoint a maximum of 17 members to the NACIDD, ensuring that the total membership is an odd number.

The NACIDD shall consist of at least seven non-federal voting members, including a Chairperson, including:

(A) At least two non-federal health care professionals with expertise in disability accessibility before, during, and after disasters, medical and mass care disaster planning, preparedness, response, or recovery;

(B) At least two representatives from State, local, Tribal, or territorial agencies with expertise in disaster planning, preparedness, response, or recovery for individuals with disabilities; and

(C) At least two individuals with a disability with expertise in disaster planning, preparedness, response, or recovery for individuals with disabilities.

The NACIDD shall also have up to 10 federal, non-voting ex officio members including the following officials or their designees:

A. The Assistant Secretary for Preparedness and Response;

B. The Administrator for the Administration for Community Living;

C. The Director of the Biomedical Advanced Research and Development Authority;

D. The Director of the Centers for Disease Control and Prevention;

E. The Commissioner of Food and Drugs;

F. The Director of the National Institutes of Health;

G. The Administrator of the Federal Emergency Management Agency;

H. The Chair of the National Council on Disability;

I. The Chair of the United States Access Board;

J. The Under Secretary for Health of the Department of Veterans Affairs.

A voting member of the NACIDD shall serve for a term of three years, except that the Secretary may adjust the terms of appointees who are initially appointed after the date of enacted of the Pandemic and All-Hazards Preparedness and Advancing Innovation Act of 2019 (June 24, 2019) in order to provide for a staggered term of appointment for all members. A voting member may serve not more than three terms on the NACIDD, and not more than two of such terms may be served consecutively. Voting members shall not be full-time or permanent part-time federal employees but shall be appointed by the Secretary as Special Government Employees (5 U.S.C. 3109). A member may serve after the expiration of his/her term until a successor has been appointed. Vacancies will be filled as members rotate out or resign using the same procedures as the initial selection process.

A quorum for the NACIDD shall consist of a majority of the appointed voting members. Of the voting members, any who are disqualified from participating in an action on a particular issue shall not count toward the quorum.

Nikki Bratcher-Bowman,
Acting Assistant Secretary for Preparedness and Response.

[FR Doc. 2021-10080 Filed 5-12-21; 8:45 am]

BILLING CODE 4150-37-P